DEPARTMENT OF HEALTH AND HUMAN SERVICES

Medicare Access and CHIP Reauthorization Act of 2015 (MACRA): Request for Information (RFI) Regarding Assessing Interoperability for MACRA; Corrections

AGENCY: Office of the National Coordinator for Health IT (ONC), HHS.

ACTION: Request for information; corrections.

SUMMARY: This document corrects an error in the request for information entitled “Office of the National Coordinator for Health Information Technology; Medicare Access and CHIP Reauthorization Act of 2015 (MACRA), Request for Information (RFI) Regarding Assessing Interoperability for MACRA.”

DATES: This correction is effective on April 27, 2016.

FOR FURTHER INFORMATION CONTACT: Talisha Searcy, Office of Policy, Evaluation & Analysis, ONC, 202-205-8417, talisha.searcy@hhs.gov

Vaishali Patel, Office of Policy, Evaluation & Analysis, ONC, 202-603-1239, vaishali.patel@hhs.gov

SUPPLEMENTARY INFORMATION:

I. Background

Following the publication of Federal Register document 2016-08134 of April 8, 2016 (81 FR 20651), request for information (RFI) entitled “Office of the National Coordinator for Health Information Technology; Medicare Access and CHIP Reauthorization Act of 2015 (MACRA), Request for Information (RFI) Regarding Assessing Interoperability for MACRA,” we identified an error in the final RFI. We summarize and correct this error in the “Summary of Errors” and “Corrections of Errors” sections below.

II. Summary of Errors

1. In the ADDRESSES section we failed to identify the ONC file code necessary for submission of comments.

III. Correction of Errors

1. On page 20651 change “refer to file code ONC xxxx” to “refer to file code ONC 2016-08134”

Dated: April 21, 2016.
Wilma Robinson,
Deputy Executive Secretary to the Department, Department of Health and Human Services.

[FR Doc. 2016-09842 Filed 4-26-16; 8:45 am]

BILLING CODE 4150-45-P